DEPARTMENT OF AGRICULTURE

Food and Nutrition Service

7 CFR Part 210

[FNS-2011-0021]

RIN 0584-AE11

National School Lunch Program: School Food Service Account Revenue Amendments Related to the Healthy, Hunger-Free Kids Act of 2010; Approval of Information Collection Request

AGENCY: Food and Nutrition Service, USDA.

ACTION: Interim final rule; approval of information collection request.

SUMMARY: The Food and Nutrition Service published an interim final rule entitled “National School Lunch Program: School Food Service Account Revenue Amendments Related to the Healthy, Hunger-Free Kids Act of 2010” on June 17, 2011. The Office of Management and Budget (OMB) cleared the associated information collection requirements (ICR) on February 6, 2012. This document announces approval of the ICR.

DATES: The ICR associated with the interim rule published in the Federal Register on June 17, 2011, at 76 FR 35301, was approved by OMB on February 6, 2012, under OMB Control Number 0584-0565.

FOR FURTHER INFORMATION CONTACT: Lynn Rodgers-Kuperman, Chief, Program Analysis and Monitoring Branch, Child Nutrition Division, Food and Nutrition Service, USDA, 3101 Park Center Drive, Room 640, Alexandria, Virginia 22302, (703) 305-2600, or Lynn.Rogers@fns.usda.gov.

SUPPLEMENTARY INFORMATION: The June 2011 rule amended National School Lunch Program (NSLP) regulations to conform to requirements contained in the Healthy, Hunger-Free Kids Act of 2010 (Pub. L. 111-296) regarding equity in school lunch pricing and revenue from nonprogram foods sold in schools. It requires school food authorities (SFAs) participating in the NSLP to provide the same level of financial support for lunches served to students who are not eligible for free or reduced price lunches as is provided for lunches served to students eligible for free lunches, and also that all food sold in a school and purchased with funds from the nonprofit school food service account, other than meals and supplements reimbursed by the Department of Agriculture, must generate revenue at least equal to the cost of such foods. The rule too comments on its ICR until August 16, 2011. This document announces OMB's approval of the ICR under OMB Control Number 0584-0565.

Dated: March 26, 2012.
Audrey Rowe,
Administrator, Food and Nutrition Service.

[FR Doc. 2012-7762 Filed 3-30-12; 8:45 am]

BILLING CODE 3410-30-P